DEPARTMENT OF HOUSING AND URBAN DEVELOPMENT

[Docket No. FR-7054-C-02]

60-Day Notice of Proposed Information Collection: Promise Zones Preference Point Certification Form 50153: Correction; OMB Control No.: 2501-0033

AGENCY: Office of Field Policy and Management, HUD.

ACTION: Notice; correction.

SUMMARY: HUD published a document in the Federal Register of May 17, 2022, concerning an information collection. The document contained an incorrect comment due date.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339. Copies of available documents submitted to OMB may be obtained from Ms. Guido.

SUPPLEMENTARY INFORMATION:

Correction

In the Federal Register of May 17, 2022, in FR #2022-10522, on page 29870, in the second column, correct the DATES caption to read:

DATES: Comments Due Date: July 18, 2022.

Nacheshia Foxx,
Federal Register Liaison for HUD, Office of Regulations, Office of the General Counsel.

[FR Doc. 2022-10946 Filed 5-20-22; 8:45 am]

BILLING CODE 4210-67-P